ENVIRONMENTAL PROTECTION AGENCY

40 CFR Part 423

[EPA-HQ-OW-2009-0819. FRL-9832-7; EPA-HQ-RCRA-2013-0209]

RIN 2040-AF14

Effluent Limitations Guidelines and Standards for the Steam Electric Power Generating Point Source Category

AGENCY: Environmental Protection Agency (EPA).

ACTION: Proposed rule, extension of public-comment period.

SUMMARY: The EPA is extending the period for providing comments on the proposed rule entitled, “Effluent Limitations Guidelines and Standards for the Steam Electric Power Generating Point Source Category,” published in the Federal Register on June 7, 2013, by 45 days.

DATES: Comments. The public-comment period for the proposed rule published June 7, 2013, (78 FR 34432) is being extended by 45 days to September 20, 2013, in order to provide the public additional time to submit comments and supporting information.

ADDRESSES: Comments. Written comments on the proposed rule may be submitted to the EPA electronically, by mail, by facsimile or through hand delivery/courier. Please refer to the proposal (78 FR 34432) for the addresses and detailed instructions.

Docket. Publically available documents relevant to this action are available for public inspection either electronically at http://www.regulations.gov or in hard copy at the Water Docket in the EPA Docket Center, EPA/DC, EPA West, Room 3334, 1301 Constitution Ave. NW., Washington, DC. The Public Reading Room is open from 8:30 a.m. to 4:30 p.m., Monday through Friday, excluding legal holidays. The telephone number for the Public Reading Room is 202-566-1744, and the telephone number for the Water Docket is 202-566-2426. The EPA has established the official public docket No. EPA-HQ-OW-2009-0819.

FOR FURTHER INFORMATION CONTACT: For technical information, contact Jezebele Alicea-Virella, Engineering and Analysis Division, Telephone: 202-566-1755; Email: alicea.jezebele@epa.gov. For economic information, contact James Covington, Engineering and Analysis Division, Telephone: 202-566-1034; Email: covington.james@epa.gov.

SUPPLEMENTARY INFORMATION:

Comment Period

In response to requests from stakeholders, the EPA is extending the previously announced public-comment period by 45 days. The public-comment period will end on September 20, 2013, rather than August 6, 2013.

List of Subjects in 40 CFR Part 423

Environmental protection, Electric power generation, Power plants, Waste treatment and disposal, Water pollution control.

Dated: July 3, 2013.
Ellen Gilinsky,
Acting Assistant Administrator.

[FR Doc. 2013-16774 Filed 7-11-13; 8:45 am]

BILLING CODE 6560-50-P